NUCLEAR REGULATORY COMMISSION

[NRC-2015-0035]

Natural Phenomena Hazards in Fuel Cycle Facilities

AGENCY: Nuclear Regulatory Commission.

ACTION: Draft interim staff guidance; request for comment.

SUMMARY: The U.S. Nuclear Regulatory Commission (NRC) is soliciting public comment on its draft Interim Staff Guidance (ISG) for Natural Phenomena Hazards (NPH) in Fuel Cycle Facilities. Fuel cycle facility licensees are required to conduct and maintain an Integrated Safety Analysis (ISA). This analysis must examine potential accident sequences caused by process deviations or other events internal to the facility and credible external events, including natural phenomena. During inspections of selected fuel cycle facilities to confirm that the facilities were in compliance with regulatory requirements to address natural phenomena hazards, the NRC staff identified several unresolved items (URIs). The ISG provides criteria and methods that the staff can use to review the treatment of NPH at fuel cycle facilities as evaluated in the facility ISA.

DATES: Submit comments by April 10, 2015. Comments received after this date will be considered if it is practical to do so, but the Commission is able to ensure consideration only for comments received before this date.

ADDRESSES: You may submit comments by any of the following methods (unless this document describes a different method for submitting comments on a specific subject):

• Federal Rulemaking Web site: Go to http://www.regulations.gov and search for Docket ID NRC-2015-0035. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12H08, U.S. Nuclear Regulatory Commission, Washington, DC 20555-0001.

For additional direction on obtaining information and submitting comments, see “Obtaining Information and Submitting Comments” in the SUPPLEMENTARY INFORMATION section of this document.

FOR FURTHER INFORMATION CONTACT: Jonathan Marcano, Office of Nuclear Materials Safety and Safeguards, U.S. Nuclear Regulatory Commission, Washington DC 20555-0001; telephone: 301-287-9063, email: Jonathan.Marcano@nrc.gov.

SUPPLEMENTARY INFORMATION:

I. Obtaining Information and Submitting Comments

A. Obtaining Information

Please refer to Docket ID NRC-2015-0035 when contacting the NRC about the availability of information for this action. You may obtain publicly-available information related to this action by any of the following methods:

• Federal Rulemaking Web site: Go to http://www.regulations.gov and search for Docket ID NRC-2015-0035.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft ISG for Natural Phenomena Hazards in Fuel Cycle Facilities is available in ADAMS under Accession No. ML15026A136.

• NRC's PDR: You may examine and purchase copies of public documents at the NRC's PDR, Room O1-F21, One White Flint North, 11555 Rockville Pike, Rockville, Maryland 20852.

B. Submitting Comments

Please include Docket ID NRC-2015-0035 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

As a result of the lessons learned from the accident at the Fukushima Daichi Nuclear Power Plant, the U.S. Nuclear Regulatory Commission staff performed a systematic evaluation and inspection of selected fuel cycle facilities to (1) confirm that licensees are in compliance with regulatory requirements and facility-specific license conditions; and (2) to evaluate their readiness to address NPH events and other licensing basis events related to NPH. From December 2011 through May 2012, the staff conducted these inspections in accordance with NRC Temporary Instruction (TI) 2600/015, “Evaluation of Licensee Strategies for the Prevention and/or Mitigation of Emergencies at Fuel Facilities.”

As a result of the TI inspection activities, the staff identified URI's related to Part 70 requirements and the current licensing basis of these facilities. The URIs document the need to further evaluate whether licensees are in compliance with regulatory requirements regarding accident sequences resulting from NPH. The staff is issuing this ISG to provide additional guidance for addressing accident sequences that may result from NPH. This ISG will be incorporated into future revisions of Appendix D of Chapter 3 of NUREG 1520, “Standard Review Plan for the Review of a License Application for a Fuel Cycle Facility” (ADAMS Accession No. ML020930033).

Dated at Rockville, Maryland, this 13th day of February, 2015.
For the Nuclear Regulatory Commission.
Craig Erlanger,
Deputy Director, Division of Fuel Cycle Safety, Safeguards, and Environmental Review, Office of Nuclear Material Safety and Safeguards.

[FR Doc. 2015-03764 Filed 2-23-15; 8:45 am]

BILLING CODE 7590-01-P